DEPARTMENT OF HEALTH AND HUMAN SERVICES

National Institutes of Health

Center for Scientific Review; Amended Notice of Meeting

Notice is hereby given of a change in the meeting of the Neurodifferentiation, Plasticity, and Regeneration Study Section, June 1, 2011, 8 a.m. to June 2, 2011, 4 p.m., Westin Alexandria, 400 Courthouse Square, Alexandria, VA 22314 which was published in the Federal Register on May 9, 2011, 76 FR 26736-26737.

The meeting will be held at the Hotel Monaco, 480 King Street, Alexandria, VA 22314. The meeting dates and time remain the same. The meeting is closed to the public.

Dated: May 10, 2011.
Jennifer S. Spaeth,
Director, Office of Federal Advisory Committee Policy.

[FR Doc. 2011-11949 Filed 5-13-11; 8:45 am]

BILLING CODE 4140-01-P